DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than July 17, 2000.

ADDRESSES: Submit written comments on any or all of the following proposed activities by mail to either: Mr. Robert Brogan, Office of Safety, Planning and Evaluation Division, RRS-21, Federal Railroad Administration, 1120 Vermont Ave., NW, Mail Stop 17, Washington, DC 20590, or Ms. Dian Deal, Office of Information Technology and Productivity Improvement, RAD-20, Federal Railroad Administration, 1120 Vermont Ave., NW, Mail Stop 35, Washington, DC 20590. Commenters requesting FRA to acknowledge receipt of their respective comments must include a self-addressed stamped postcard stating, “Comments on OMB control number __.” Alternatively, comments may be transmitted via facsimile to (202) 493-6265 or (202) 493-6170, or E-mail to Mr. Brogan at robert.brogan@fra.dot.gov, or to Ms. Deal at dian.deal@fra.dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW, Mail Stop 17, Washington, DC 20590 (telephone: (202) 493-6292) or Dian Deal, Office of Information Technology and Productivity Improvement, RAD-20, Federal Railroad Administration, 1120 Vermont Ave., NW, Mail Stop 35, Washington, DC 20590 (telephone: (202) 493-6133). (These telephone numbers are not toll-free.)

SUPPLEMENTARY INFORMATION: The Paperwork Reduction Act of 1995 (PRA), Pub. L. 104-13, § 2, 109 Stat. 163 (1995) (codified as revised at 44 U.S.C. 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding: (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce the information requested. See 44 U.S.C. 3501.

Below is a brief summary of currently approved information collection activities that FRA will submit for clearance by OMB as required under the PRA:

Title: Hours of Service Regulations.

OMB Control Number: 2130-0005.

Abstract: The collection of information is due to the railroad hours of service regulations set forth in 49 CFR Part 228 which require railroads to collect the hours of duty for covered employees, and records of train movements. Railroads whose employees have exceeded maximum duty limitations must report the circumstances. Also, a railroad that has developed plans for construction or reconstruction of sleeping quarters (Subpart C of 49 CFR part 228) must obtain approval of the Federal Railroad Administration (FRA) by filing a petition conforming to the requirements of Sections 228.101, 228.103, and 228.105.

Form Number(s): FRA F 6180.3.

Affected Public: Businesses.

Respondent Universe: 685 railroads.

Frequency of Submission: On occasion.

Reporting Burden:

CFR section | Respondent universe | Total annual responses | Average time per response | Total annual burden hours | Total annual burden cost
228.11—Hours of Duty Records | 632 railroads | 27,375,000 records. | 10 min./2 min | 3,735,166 | $130,730,810
228.17—Dispatchers of Train Movements | 150 Dispatch Offices | 54,750 records | 6 hours | 328,500 | 11,497,500
228.19—Monthly Reports of Excess Service | 300 railroads | 1,800 reports | 2 hours | 3,600 | 63,000
228.103—Construction of Employee Sleeping Quarters | 632 railroads | 1 petition | 16 hours | 16 | 560
45 U.S.C. 61-641—Hours of Service Act | 15 railroads | 15 petitions | 10 hours | 150 | 5,250

Total Responses: 27,431,566.

Estimated Total Annual Burden: 4,067,432 hours.

Status: Regular Review.

Title: Railroad Operating Rules.

OMB Control Number: 2130-0035.

Abstract: The collection of information is due to the railroad operating rules set forth in 49 CFR part 217 which require Class I and Class II railroads to file with FRA copies of their operating rules, timetables, and timetable special instructions, and subsequent amendments thereto. Class III railroads are required to retain copies of these documents at their system headquarters. Also, the collection of information is due to 49 CFR 220.21 (b) which requires railroads to retain one copy of their current operating rules with respect to radio communications and one copy of each subsequent amendment thereto. These documents must be available to FRA upon request.

Affected Public: Businesses.

Respondent Universe: 633 railroads.

Frequency of Submission: On occasion.

Reporting Burden:

CFR section | Respondent universe | Total annual responses | Average time per response | Total annual burden hours | Total annual burden cost
217.7—Copy-FRA-operating rules, timetables-ClassI/II | 1 new railroad | 2 submission | 1 hour | 1 hour | $35
—Amendments | 32 railroads | 96 amendments | 20 minutes | 32 hours | $1,120
—Copy of operating rules, etc.—ClassIII | 20 new railroads | 20 submissions | .92 hour | 18 hours | $630
—Amendments | 632 railroads | 1,896 amendment | .25 hour | 474 hours | $16,590
217.9—Copy—prog. for perf. of Operational tests | 20 new railroads | 20 programs | 9.92 hours | 198 hours | $6,930
—Amendments | 633 railroads | 3,165 amendments | 1.92 hours | 6,077 hours | $212,695
—Op. Test Records | 633 railroads | 495,000 test records | .25 hour | 123,750 hours | $4,331,250
—Summary-Tests, etc | 55 railroads | 55 summaries | 7 hours | 385 hours | $13.475
217.11-Copy—Inst Prog.—Employees | 20 new railroads | 20 programs | 9.92 hours | 198 hours | $6,930
—Amendments | 633 railroads | 75 amendments | .92 hour | 69 hours | $2,380
220.21(b)-Copy-Op. Rules—Radio | Incl. under 217.7 | Incl. under 217.7 | Incl. under 217.7 | Incl. under 217.7 | Incl. under 217.7
—Amendments

Total Responses: 500,348

Estimated Total Annual Burden: 131,202 hours.

Status: Regular Review.

Title: State Safety Participation Regulations and Remedial Actions.

OMB Control Number: 2130-0509.

Abstract: The collection of information is set forth under 49 CFR Part 212, and requires qualified state inspectors to provide various reports concerning state investigative, inspection, and and surveillance activities regarding railroad compliance with Federal railroad safety laws and regulations to FRA for monitoring and enforcement purposes. Additionally, railroads are required to report to FRA actions taken to remedy certain alleged violations of law.

Form Number(s): FRA F 6180. 10, 6180.29/29A/33, 6180.61/67/68/68A/69/96/96A/96B

Affected Public: Businesses

Respondent Universe: States and Railroads

Frequency of Submission: On occasion

Reporting Burden:

CFR section | Respondent universe (States) | Total annual responses | Average time per response (hours) | Total annual burden hours | Total annual burden cost
—Application For Participation | 15 | 15 Updates | 2.5 | 38 | $1,330
—Training Funding Agreement | 30 | 30 Agreement | 1 | 30 | 1,050
—Inspector Training Reimbursement | 30 | 300 Vouchers | 1 | 300 | 10,500
—Annual Work Plan | 30 | 30 reports | 15 | 450 | 15,750
Inspection Form (FRA F 6180.96) | 30 | 18,000 forms | .25 | 4,500 | 126,000
Motive Power and Equipment Violation Report (FRA F 6180.68, 6180.68A/69) | 19 | 150 reports | 1 | 150 hours | 4,200
Violation of Oper. Practices Insp. Rpt (Form FRA F 6180.67) | 13 | 40 reports | 1 | 40 | 1,120
—Application For Participation | 15 | 15 Updates | 2.5 | 38 | $1,330
—Training Funding Agreement | 30 | 30 Agreements | 1 | 30 | 1,050
—Inspector Training Reimbursement | 30 | 300 Vouchers | 1 | 300 | 10,500
Violation of Hazardous Materials Inspection Rept (Form FRA F 6180.67) | 14 | 100 reports | 13 | 1,300 | 36,400
Violation of Locomotive Inspection Act Rept. (Form FRA F 6180.10) | 17 | 50 reports | 1 | 50 | 1,400
Violation of Safety Appliance Law Rpt. (Form FRA F 6180.29/29A) | 19 | 53 reports | 1 | 53 | 1,484
Violation of Hours of Service Law Rpt. (Form FRA F 6180.33) | 13 | 21 reports | 1 | 21 reports | 588
Violation of Accident/Incident Reporting Rules Rpt (Form FRA F 6180.61) | 13 | 10 reports | 1 | 10 | 280
Remedial Actions Rpt (209.405/407) | 32 | 5,048 reports | .25 | 1,262 | 42,908
—Violation Rpt Challenge | ¹ 685 | 1,010 challenges | 1 | 1,010 | 34,340
Delayed Reports (209.407) | ¹ 685 | 505 reports | .50 | 253 | 8,602
¹ Railroads.

Total Responses: 25,362.

Estimated Total Annual Burden: 9,467 hours.

Status: Regular Review.

Title: Rear-End Marking Devices.

OMB Control Number: 2130-0523.

Abstract: The collection of information is set forth under 49 CFR part 221 which requires railroads to furnish a detailed description of the type of marking device to be used for the trailing end of rear cars in order to ensure rear cars meet minimum standards for visibility and display. Railroads are required to furnish a certification that the device has been tested in accordance with current “Guidelines for Testing of FRA Rear End Marking Devices.” Additionally, railroads are required to furnish detailed test records which include the testing organizations, description of tests number of samples tested, and the test results in order to demonstrate compliance with the performance standard.

Affected Public: Businesses.

Respondent Universe: 685 railroads.

Frequency of Submission: On occasion.

Reporting Burden:

CFR section | Respondent universe | Total annual responses | Average time per response (hours) | Total annual burden hours | Total annual burden cost
Requests for Approval of Marking Devices & Signed Certification by Chief Operating Officer | 685 railroads | 2 requests | 4 | 8 | $280
Recordkeeping—Requests for Marking Devices | 685 railroads | 2 records | .10 | .20 | 7
Recordkeeping—Detailed Test Records | 685 railroads | 1 test record | 20 | 20 | 700

Total Responses: 5.

Estimated Total Annual Burden: 28.2 hours.

Status: Regular Review.

Title: Certification of Glazing Materials.

OMB Control Number: 2130-0525.

Abstract: The collection of information is set forth under 49 CFR part 223 which requires the certification and permanent marking of glazing materials by the manufacturer along with the responsibility of the manufacturer to make available test verification data to railroads and FRA upon request.

Affected Public: Businesses.

Respondent Universe: 5 manufacturers.

Frequency of Submission: On occasion.

Reporting Burden:

CFR section | Respondent universe (manufacturers) | Total annual responses | Average time per response | Total annual burden hours | Total annual burden cost
Requests—Glazing Certification Info | 5 | 75 requests | 15 minutes | 19 | $475
Preparing/Recording Glazing Marking Information | 5 | 25,000 pieces | .0021 minutes | 52 | 1,300
Certification Test | 5 | 1 test | 14 hours | 14 | 1,120

Total Responses: 76.

Estimated Total Annual Burden: 85 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, D.C. on May 12, 2000.
Margaret B. Reid,
Acting Director, Office of Information Technology and Support Systems, Federal Railroad Administration.

[FR Doc. 00-12568 Filed 5-17-00; 8:45 am]

BILLING CODE 4910-06-P